DEPARTMENT OF LABOR

Employment and Training Administration

[TA-W-62,180]

Cooper Standard Automotive Fluid Systems Division—Archbold, OH Plant Including On-Site Leased Workers From Kelly Services, Msx International and Angola Personnel; Archbold, OH; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on February 4, 2008, applicable to workers of Cooper Standard Automotive, Fluid Systems Division—Archbold, Ohio Plant, Archbold, Ohio, including on-site leased workers from Kelly Services and MSX International. The notice was published in the Federal Register on February 22, 2008 (73 FR 9835).

At the request of the State agency, the Department reviewed the certification for workers of the subject firm. The workers are engaged in the production of brazed and coated, welded and stainless steel tubing for automotive fuel and brake applications.

New information shows that leased workers of Angola Personnel were employed on-site at the Archbold, Ohio location of Fluid Systems Division, Archbold, Ohio Plant of Cooper Standard Automotive. The Department has determined that these workers were sufficiently under the control of the subject firm to be considered leased workers.

Based on these findings, the Department is amending this certification to include leased workers of Angola Personnel working on-site at the Fluid Systems Division, Archbold, Ohio Plant location of the subject firm.

The intent of the Department's certification is to include all workers at Cooper Standard Automotive, Fluid Systems Division, Archbold, Ohio Plant, Archbold, Ohio who were adversely-impacted by increased imports of brazed and coated, welded and stainless steel tubing for automotive fuel and brake applications.

The amended notice applicable to TA-W-62,180 is hereby issued as follows:

“All workers of Cooper Standard Automotive, Fluid Systems Division—Archbold, Ohio Plant, Archbold, Ohio, including on-site leased workers from Kelly Services, MSX International, and Angola Personnel, who became totally or partially separated from employment on or after September 20, 2006, through February 4, 2010, are eligible to apply for adjustment assistance under Section 223 of the Trade Act of 1974, and are also eligible to apply for alternative trade adjustment assistance under Section 246 of the Trade Act of 1974.

Signed at Washington, DC this 5th day of March 2008.
Linda G. Poole,
Certifying Officer, Division of Trade Adjustment Assistance.

[FR Doc. E8-4665 Filed 3-10-08; 8:45 am]

BILLING CODE 4510-FN-P